FEDERAL COMMUNICATIONS COMMISSION

Notice of Public Information Collection(s) Being Reviewed by the Federal Communications Commission, Comments Requested

May 13, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 25, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0849.

Title: Commercial Availability of Navigation Devices, CS Docket 97-80.

Form Number: Not applicable.

Type of Review: Revision of a currently approved collection.

Respondents: Business or other for-profit entities.

Number of Respondents: 215.

Estimated Time per Response: 10 minutes to 40 hours.

Frequency of Response: One-time reporting requirement; Every 60 days and every 90 days reporting requirements.

Total Annual Burden: 4,944 hours.

Total Annual Cost: 33,450.

Privacy Impact Assessment: No impact(s).

Needs and Uses: Section 629 of the Communications Act of 1934, as amended, directs the Commission to assure the commercial availability of navigation devices from sources other than incumbent multichannel video programming distributors. The Commission released an Order, In the Matter of the Implementation of Section 304 of the Telecommunications Act of 1996—Commercial Availability of Navigation Devises, CS Docket No. 97-80 on March 17, 2005. The reporting requirements in the Order are imposed to ensure that progress continues to be made toward the statutory goals of Section 629. Beginning August 1, 2005 or upon Office of Management and Budget (OMB) approval, and every 60 days thereafter, the National Cable and Telecommunications Association and the Consumer Electronics Association must file joint status reports and hold joint status meetings with the Commission regarding progress in bidirectional negotiations and a software-based conditional access agreement. Beginning August 1, 2005 or upon OMB approval, and every 90 days thereafter, the six largest cable operators must file status reports on CableCARD deployment and support. The reporting requirement that the cable industry file a report on the feasibility of deploying downloadable security is effective on December 1, 2005 or upon OMB approval.

Federal Communications Commission.
Marlene H. Dortch,
Secretary.

[FR Doc. 05-10113 Filed 5-24-05; 8:45 am]

BILLING CODE 6712-10-P